DEPARTMENT OF STATE

[Public Notice 10631]

60-Day Notice of Proposed Information Collection: Request for Commodity Jurisdiction Determination

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to April 8, 2019.

ADDRESSES: You may submit comments by any of the following methods:

• Web: Persons with access to the internet may comment on this notice by going to www.Regulations.gov. You can search for the document by entering “Docket Number: DOS-2018-0058” in the Search field. Then click the “Comment Now” button and complete the comment form.

• Email: The public email comments to DDTCPublicComments@state.gov. Include “ATTN: OMB Approval, Request for Commodity Jurisdiction Determination” in the subject of the email.

• Mail: The public may mail comments to the Directorate of Defense Trade Controls, Department of State, 2401 E St. NW, Suite H1205, Washington, DC 20522.

You must include the information collection title (Request for Commodity Jurisdiction Determination), form number (DS-4076), and the OMB control number (1405-0163) in all correspondence.

FOR FURTHER INFORMATION CONTACT: Direct requests for additional information regarding the collection listed in this notice, including requests for copies of the proposed collection instrument and supporting documents, to Andrea Battista, who may be reached at battistaal@state.gov.

SUPPLEMENTARY INFORMATION:

• Title of Information Collection: Request for Commodity Jurisdiction Determination.

• OMB Control Number: 1405-0163.

• Type of Request: Revision of a Currently Approved Collection.

• Originating Office: Directorate of Defense Trade Controls (PM/DDTC).

• Form Number: DS-4076.

• Respondents: Any person requesting a commodity jurisdiction determination.

• Estimated Number of Respondents: 600.

• Estimated Number of Responses: 600.

• Average Time per Response: 4 hours.

• Total Estimated Burden Time: 2,400 annual hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Pursuant to ITAR § 120.4, a person, as defined by ITAR § 120.14, may request a written determination from the Department of State stating whether a particular article or defense service is covered by the United States Munitions List (USML). Form DS-4076 is the means by which respondents may submit this request. Information submitted via DS-4076 will be shared with the Department of Defense, Department of Commerce, and other USG agencies, as needed, during the commodity jurisdiction process. Determinations will be made on a case-by-case basis based on the commodity's form, fit, function, and performance capability.

Methodology

Respondents must submit the DS-4076 electronically through DDTC's electronic system. Respondents may access the DS-4076 on DDTC's website, www.pmddtc.state.gov, under Commodity Jurisdictions (CJs).

Anthony M. Dearth,
Chief of Staff, Directorate of Defense Trade Controls, Department of State.

[FR Doc. 2019-01309 Filed 2-5-19; 8:45 am]

BILLING CODE 4710-25-P